DEPARTMENT OF COMMERCE

National Oceanic and Atmospheric Administration

Dataset Workshop—U.S. Billion Dollar Disasters Dataset (1980-2011): Assessing Dataset Strengths and Weaknesses for a Pathway to an Improved Dataset

AGENCY: National Environmental Satellite, Data, and Information Service (NESDIS), National Oceanic and Atmospheric Administration (NOAA), Department of Commerce (DOC).

ACTION: Notice of request for information.

SUMMARY: This notice sets forth the schedule and topics of an upcoming workshop hosted by NOAA's National Climatic Data Center in Asheville, North Carolina. Invited participants will discuss topics as outlined below.

Members of the administrative public, private and academic sectors are invited to attend the workshop, and are required to fulfill a request to RSVP to Karen.L.Miller@noaa.gov by 5 p.m. EDT, Friday, April 27, 2012 if they wish to attend. The workshop is to be held in a federal facility; building-security restrictions preclude attendance for those who do not RSVP by the deadline. Space is also limited to the first 35 responses, but remote access via webinar will be made available for the first 50 participants requesting webinar participation. The remote access participation information will be provided on an individual basis once participation has been confirmed through RSVP.

Workshop Date and Time: The workshop will be held on May 3, 2012 from 9 a.m. to 5 p.m. and May 4, 2012 from 9 a.m. to 12:30 p.m.

RSVP Deadline: Anyone wishing to attend the workshop must RSVP no later than 5:00 pm EDT on April 27, 2012.

ADDRESSES: The workshop will be held at the Veach-Baley Federal Complex, located at 151 Patton Avenue, Asheville, North Carolina 28801.

FOR FURTHER INFORMATION CONTACT: Adam Smith, National Climatic Data Center, 151 Patton Avenue, Rm. 471, Asheville, North Carolina 28801. (Phone: 828-271-4183, Email: Adam.Smith@noaa.gov) For RSVP responses, use the email address noted above (Karen.L.Miller@noaa.gov).

Workshop Goals

The workshop will focus on a review, discussion, and evaluation of NOAA's U.S. Billion Dollar Disasters (1980-2011) dataset and associated methods used to develop the data set. An important goal of the meeting is to identify strengths and weaknesses of the current dataset and related methodology. Emphasis will be placed on dataset accuracy and time-dependent biases. Pathways to overcome accuracy and bias issues will be an important focus.

Participants will consider:

• Historical development and current state of the U.S. Billion Dollar Disasters Report;

• What additional data sources and/or new methods should be considered to enhance the robustness of the Billion Dollar Disasters dataset;

• Examination of unique uncertainties related to the cost of each of the major types of weather and climate disasters the data set addresses;

• What steps should be taken to enhance the robustness of the billion-dollar disaster dataset and the input sources used for it; and

• What steps might NOAA take to leverage the expertise of the public, private and academic partners in the development, maintenance and the timely review/revision of the U.S. Billion Dollar Dataset in the long-term?

The report from this workshop will include:

○ A peer review of the current methods used to estimate disaster costs.

○ Guidance for improving these methods.

○ Recommendations for rectifying any known time-dependent biases.

○ Recommendations for minimizing future errors and biases.

Mary E. Kicza,
Assistant Administrator for Satellite and Information Services.

[FR Doc. 2012-6069 Filed 3-13-12; 8:45 am]

BILLING CODE P